DEPARTMENT OF TRANSPORTATION

Federal Aviation Administration

14 CFR Part 39

[Docket No. 2001-NM-152-AD]

RIN 2120-AA64

Airworthiness Directives; McDonnell Douglas Model DC-8-11, DC-8-12, DC-8-21, DC-8-31, DC-8-32, DC-8-33, DC-8-41, DC-8-42, and DC-8-43 Airplanes; DC-8-50 Series Airplanes; DC-8-61 Airplanes; DC-8-61F Airplanes; DC-8-71 Airplanes; and DC-8-71F Airplanes

AGENCY: Federal Aviation Administration, DOT.

ACTION: Proposed rule; withdrawal.

SUMMARY: This action withdraws a notice of proposed rulemaking (NPRM) that proposed revision of an existing airworthiness directive (AD). The existing AD applies to certain McDonnell Douglas airplanes. That NPRM would have extended the compliance time for the follow-on inspection after accomplishment of the modification required by the existing AD. Since the issuance of the NPRM, the Federal Aviation Administration (FAA) has approved an alternative method of compliance for the existing AD using a new version of the service bulletin that provides an acceptable level of safety. Accordingly, the proposed rule is withdrawn.

FOR FURTHER INFORMATION CONTACT: Jon Mowery, Aerospace Engineer, Airframe Branch, ANM-120L, FAA, Los Angeles Aircraft Certification Office, 3960 Paramount Boulevard, Lakewood, California 90712-4137; telephone (562) 627-5322; fax (562) 627-5210.

SUPPLEMENTARY INFORMATION: A proposal to amend part 39 of the Federal Aviation Regulations (14 CFR part 39) to revise an existing airworthiness directive (AD), applicable to certain McDonnell Douglas transport category airplanes, was published in the Federal Register as a Notice of Proposed Rulemaking (NPRM) on January 30, 2003 (68 FR 4727). The NPRM proposed to revise AD 2001-06-02, amendment 39-12149, to extend the compliance time from “within 32,000 flight hours” to “within 32,000 landings” for the follow-on inspection after accomplishment of the terminating modification required by AD 2001-06-02. That action was prompted by data indicating that extending the compliance time for the follow-on inspection would provide an acceptable level of safety.

Actions That Occurred Since the NPRM Was Issued

Since the issuance of that NPRM, we have approved McDonnell Douglas Service Bulletin DC8-57-090, Revision 6, dated April 9, 2002, as an alternative method of compliance with AD 2001-06-02. Revision 6 provides data indicating that extending the compliance time for the follow-on inspection required by AD 2001-06-02 to “within 32,000 landings” provides an acceptable level of safety.

FAA's Conclusions

Since we approved Revision 6 as an alternative method of compliance with AD 2001-06-02, we have determined that it is unnecessary to revise AD 2001-06-02 to extend the compliance time of the follow-on inspection to the terminating action. Accordingly, the proposed rule is hereby withdrawn.

Withdrawal of this NPRM constitutes only such action, and does not preclude the agency from issuing another action in the future, nor does it commit the agency to any course of action in the future.

Regulatory Impact

Since this action only withdraws a notice of proposed rulemaking, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, the notice of proposed rulemaking, Docket 2001-NM-152-AD, published in the Federal Register on January 30, 2003 (68 FR 4727), is withdrawn.

Issued in Renton, Washington, on May 27, 2005.
Ali Bahrami,
Manager, Transport Airplane Directorate, Aircraft Certification Service.

[FR Doc. 05-11257 Filed 6-6-05; 8:45 am]

BILLING CODE 4910-13-P